DEPARTMENT OF HEALTH AND HUMAN SERVICES

Administration for Children and Families

Submission for OMB Review; Comment Request

Title: Personal Responsibility Education Program (PREP) Multi-Component Evaluation Extension.

OMB No.: 0970-0398.

Description: The Family and Youth Services Bureau (FYSB) and the Office of Planning, Research, Evaluation (OPRE) in the Administration for Children and Families (ACF) are requesting an extension without change of a currently approved information collection (OMB No. 0970-0398). The purpose of the extension is to complete the ongoing follow-up data collection for the Personal Responsibility Education Program (PREP) Multi-Component Evaluation, which was designed to document how PREP programs are designed and implemented in the field, collect performance measure data for PREP programs, and assess the effectiveness of selected PREP-funded programs.

The PREP Multi-Component Evaluation contains three components: A Design and Implementation Study, a Performance Analysis Study, and an Impact and In-Depth Implementation Study. Data collection related to the Design and Implementation Study is complete; data collection related to the Performance Analysis Study will be complete in late summer 2017. This notice is specific to data collection activities for the Impact and In-Depth Implementation Study, which is being conducted in four sites. The proposed extension is necessary to complete ongoing follow-up data collection. The resulting data will be used in a rigorous program impact analysis to assess the effectiveness of each program in reducing teen sexual activity and associated risk behaviors.

Respondents: Youth participants who agreed to participate in the study upon enrollment in the four impact study sites.

Annual Burden Estimates
Instrument | Total/annual number of respondents | Number of responses per respondents | Average burden hours per response | Total/annual burden hours
Second follow-up survey | 325 | 1 | .75 | 244

Estimated Total/Annual Burden Hours: 244.

Additional Information: Copies of the proposed collection may be obtained by writing to the Administration for Children and Families, Office of Planning, Research and Evaluation, 330 C Street SW., Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary Jones,
ACF/OPRE Certifying Officer.

[FR Doc. 2017-25444 Filed 11-24-17; 8:45 am]

BILLING CODE 4184-37-P